DEPARTMENT OF TRANSPORTATION

Federal Aviation Administration

14 CFR Part 39

[Docket No. FAA-2005-22696; Directorate Identifier 2005-SW-22-AD; Amendment 39-14877; AD 2007-01-06]

RIN 2120-AA64

Airworthiness Directives; Bell Helicopter Textron Canada Model 206A, B, L, L-1, L-3, and L-4 Helicopters

AGENCY: Federal Aviation Administration, DOT.

ACTION: Final rule.

SUMMARY: This amendment supersedes an existing airworthiness directive (AD) for the specified Bell Helicopter Textron Canada (BHTC) model helicopters. The existing AD currently requires certain inspections and checks of the tail rotor blade (blade) for a deformation, a crack, and a bent or deformed tail rotor weight (weight). Also, that AD requires, before further flight, replacing each blade with an airworthy blade if a deformation, a crack, or a bent or deformed weight is found. This action contains the same actions as the existing AD and also adds to the applicability certain serial-numbered blades inadvertently omitted from the current AD. This action also requires replacing each affected blade, which is a terminating action. This amendment is prompted by three reports of skin cracks originating near the blade trailing edge balance weight. The actions specified by this AD are intended to prevent blade failure and subsequent loss of control of the helicopter.

DATES: Effective February 13, 2007.

ADDRESSES: You may get the service information identified in this AD from Bell Helicopter Textron Canada, 12,800 Rue de l'Avenir, Mirabel, Quebec J7J1R4, telephone (450) 437-2862 or (800) 363-8023, fax (450) 433-0272.

Examining the Docket

You may examine the docket that contains this AD, any comments, and other information on the Internet at http://dms.dot.gov, or at the Docket Management System (DMS), U.S. Department of Transportation, 400 Seventh Street, SW., Room PL-401, on the plaza level of the Nassif Building, Washington, DC.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION: A proposal to amend 14 CFR part 39 by superseding AD 2004-24-08, Amendment 39-13884 (69 FR 69810, December 1, 2004), for the specified BHTC model helicopters was published in the Federal Register on October 17, 2005 (70 FR 60246). This action contains the same actions as the existing AD. Also, when we issued AD 2004-24-08, we intentionally did not include the long-term requirement (no later than April 27, 2007) for removing and sending the affected blades to Rotor Blades, Inc. as specified by the manufacturer. We are including a long-term requirement in this AD that the affected blades be replaced on or before April 27, 2007, as terminating action. Additionally, in AD 2004-24-08, we inadvertently omitted blade serial numbers 10102 through 10114 from the applicability. We are correcting that oversight with this action.

Since issuing AD 2004-24-08, BHTC has issued Alert Service Bulletin 206-04-100 for Bell Model 206A and B helicopters, and 206L-04-127 for Bell Model 206L series helicopters, both Revision C, both dated March 5, 2005 (ASB). These ASBs add two warnings in the compliance section specifying returning the blade for balancing to Rotor Blades, Inc., and introduce new skin damage limits that supersede the previous damage limits. The ASB also gives a new address for Rotor Blades Inc.

Transport Canada, the airworthiness authority for Canada, notified the FAA that an unsafe condition may exist on these helicopter models. Transport Canada advises of three reports of skin cracks originating near the blade trailing edge balance weight. Two of the occurrences caused a loss of the weight and a strip of material along the trailing edge leading to an imbalance, which caused the fracture of three of the four tail rotor gearbox attachments. One of these occurrences resulted in the gearbox shifting that caused failure of the drive shaft and resulting loss of yaw control. Transport Canada issued AD No. CF-2004-05R1, dated June 28, 2004, to ensure the continued airworthiness of these helicopters in Canada.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

Interested persons have been afforded an opportunity to participate in the making of this amendment. No comments were received on the proposal or the FAA's determination of the cost to the public. The FAA has determined that air safety and the public interest require the adoption of the rule as proposed, except for a change in paragraph (f) of the AD to add additional contact information. This change will neither increase the economic burden on any operator nor increase the scope of the AD.

The FAA estimates that this AD will:

• Affect 2194 helicopters of U.S. registry,

• Take about ¼ work hour for a blade check or inspection, and

• Take 3 work hours to replace a blade at an average labor rate of $65 per work hour.

• Cost about $5848 per helicopter. (In its ASB, the manufacturer states it will give warranty credit based on hour usage on the blade with remaining life hours and other restrictions.)

Based on these figures, we estimate the total cost impact of the AD on U.S. operators to be $19,989,973. Costs assume—200 pilot checks, 26 mechanic inspections, and one blade replacement for 90 percent of the fleet with a nonconforming blade.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-13884 (69 FR 69810, December 1, 2004) and by adding a new airworthiness directive (AD), Amendment 39-14877, to read as follows:

2007-01-06 Bell Helicopter Textron Canada: Amendment 39-14877. Docket No. FAA-2005-22696; Directorate Identifier 2005-SW-22-AD. Supersedes AD 2004-24-08, Amendment 39-13884, Docket No. 2004-SW-12-AD.

Applicability

Model 206A, B, L, L-1, L-3, and L-4 helicopters, with a tail rotor blade (blade) with the following part number (P/N) and serial number (S/N) installed, certificated in any category.

Model 206A & B; Blade, P/N 206-016-201-133, S/N with prefix “CS” and no “V” suffix | Model 206A, B, L, L-1, L-3, & L-4; Blade, P/N 206-016-201-131, S/N with prefix “CS” and no “V” suffix
1381 through 1442 | 7000 through 7018 | 10174 through 10218
1492 through 1517 | 7020 through 7043 | 10220
1520 through 1542 | 7045 through 7050 | 10232
1550 | 7052 through 7132 | 10235
1556 | 7134 through 7246 | 10237 through 10241
1560 | 7248 through 7270 | 10244
1562 | 7272 through 7277 | 10245
1564 through 1567 | 7279 through 7339 | 10248
1569 through 1606 | 7342 through 7368 | 10250 through 10264
1609 | 7784 | 10266 through 10268
1611 | 7786 | 10270 through 10274
1612 | 7788 | 10276 through 10278
1614 through 1631 | 7790 through 7796 | 10280 through 10282
1633 through 1675 | 7798 through 7819 | 10284 through 10292
1677 | 7821 through 7833 | 10296
1678 | 7835 through 7839 | 10300 through 10330
1680 through 1682 | 7841 through 8001 | 10332
1684 through 1787 | 8003 through 8026 | 10333
1789 through 1803 | 8029 through 8061 | 10335 through 10347
1810 through 1812 | 8064 through 8117 | 10349
1814 | 8119 | 10351 through 10359
1816 | 8121 through 8139 | 10363 through 10365
1820 | 8142 through 8176 | 10367
1823 through 1831 | 8178 through 8262 | 10373
1834 through 1836 | 8264 through 8294 | 10374
1838 | 8298 through 8368 | 10377 through 10385
1840 through 1844 | 8370 through 8375 | 10387 through 10408
1846 | 8378 through 8416 | 10410
1848 through 1882 | 8419 | 10414 through 10417
1884 through 1887 | 8421 | 10419 through 10427
1889 through 1893 | 8425 through 8428 | 10430
1896 through 1898 | 8430 through 8438 | 10432
1900 | 8440 | 10437
1904 | 8441 | 10438
1909 through 1912 | 8443 | 10442 through 10445
1915 | 8445 through 8447 | 10458 through 10466
1916 | 8449 through 8606 | 10469
1919 through 1921 | 8608 through 8622 | 10470
1924 | 8624 through 8626 | 10474
1928 through 1931 | 8628 through 8632 | 10476 through 10478
1933 | 8635 through 8653 | 10480 through 10487
1934 through 1939 | 8655 through 8686 | 10489 through 10491
1943 | 8690 | 10493 through 10495
1945 | 8692 through 8700 | 10497 through 10503
1947 | 8703 through 8715 | 10505 through 10588
1948 | 8717 through 8722 | 10591 through 10606
1952 through 1957 | 8724 through 8742 | 10608 through 10610
1960 | 8745 through 8828 | 10612 through 10620
1962 through 1965 | 8830 through 8835 | 10623
| 8838 through 8840 | 10624
| 8842 through 8881 | 10631 through 10655
| 8883 through 9032 | 10657 through 10669
| 9034 through 9139 | 10672
| 9141 through 9198 | 10673
| 9200 | 10676 through 10678
| 9202 through 9302 | 10680 through 10683
| 9304 through 9339 | 10685
| 9341 through 9371 | 10687
| 9373 through 9411 | 10689 through 10702
| 9413 | 10707
| 9415 through 9417 | 10712
| 9419 through 9496 | 10715
| 9498 through 9585 | 10730
| 9587 through 9594 | 10732 through 10734
| 9596 through 9618 | 10736
| 9621 through 9629 | 10738
| 9632 through 9642 | 10739
| 9645 through 9651 | 10746
| 9653 through 9673 | 10750
| 9675 through 9707 | 10756
| 9709 through 9724 | 10760
| 9727 through 9731 | 10761
| 9733 through 9735 | 10765
| 9737 through 9739 | 10770
| 9741 through 9748 | 10774 through 10776
| 9751 through 9785 | 10778
| 9787 | 10781
| 9788 | 10783 through 10785
| 9790 through 9792 | 10792
| 9795 through 9847 | 10794
| 9849 through 9928 | 10798
| 9930 through 9937 | 10799
| 9940 through 9942 | 10806 through 10808
| 9944 through 9952 | 10811
| 9955 through 9972 | 10814 through 10822
| 9974 through 9989 | 10824
| 9991 through 9995 | 10825
| 9997 through 10004 | 10829
| 10006 through 10009 | 10831
| 10011 | 10917
| 10013 through 10018 | 10923
| 10021 through 10030 | 10931
| 10034 | 10936
| 10036 through 10057 | 10937
| 10061 through 10082 | 10940
| 10090 through 10092 | 10943
| 10094 through 10100 | 10945
| 10102 through 10114 | 10947
| 10116 | 10948
| 10119 | 10964
| 10121 | 10965
| 10123 through 10134 | 10973
| 10136 through 10140 | 10982
| 10142 through 10144 | 10985
| 10146 through 10172 | 10986

Compliance

Required as indicated.

To prevent blade failure and subsequent loss of control of the helicopter, do the following:

(a) Before further flight, unless accomplished previously, and before installing any blade with a P/N and S/N listed in the applicability section of this AD, clean the blade. Using a 10X or higher magnifying glass, inspect both sides of each blade for a deformation, a crack, and a bent or deformed weight in the area shown in Figure 1 of this AD.

Note 1: Paint irregularities on the blade may indicate a crack.

(b) After doing paragraph (a) of this AD, at the following intervals, clean both sides of each blade and do either paragraph (1) or (2) as follows:

(1) At intervals not to exceed 12 hours time-in-service (TIS), using a 10X or higher magnifying glass, inspect both sides of each blade for a deformation, a crack, and a bent or deformed weight in the area shown in Figure 1 of this AD, or

(2) Inspect and check both sides of each blade for a deformation, a crack, and a bent or deformed weight in the area shown in Figure 1 of this AD as follows:

(i) Using a 10X or higher magnifying glass, inspect at intervals not to exceed 24 hours TIS, and

(ii) Check at intervals not to exceed 3 hours TIS between the inspections required by paragraph (b)(2)(i) of this AD. An owner/operator (pilot), holding at least a private pilot certificate, may perform this visual check and must enter compliance with this paragraph into the helicopter maintenance records by following 14 CFR sections 43.11 and 91.417(a)(2)(v).

(c) Before further flight, replace any blade that has a deformation, a crack, or a bent or deformed weight with an airworthy blade.

Note 2: Bell Helicopter Textron Alert Service Bulletin No. 206-04-100 for Model 206A and B and No. 206L-04-127 for Model 206L series, both Revision C, both dated March 5, 2005, pertain to the subject of this AD.

(d) On or before April 27, 2007, for any affected part-numbered blade with a S/N listed in the applicability section of this AD:

(1) Replace the blade with a blade that has a S/N other than one listed in the applicability section of this AD, or

(2) Replace the blade with a blade that has a S/N listed in the applicability section of this AD and also has a “V” suffix.

(e) Replacing each blade with an airworthy blade as required by paragraph (d) of this AD constitutes terminating action for the requirements of this AD.

(f) To request a different method of compliance or a different compliance time for this AD, follow the procedures in 14 CFR 39.19. Contact the Safety Management Group, Rotorcraft Directorate, FAA, ATTN: Sharon Miles, Aviation Safety Engineer, Regulations and Guidance Group, Fort Worth, Texas 76193-0111, telephone (817) 222-5122, fax (817) 222-5961, for information about previously approved alternative methods of compliance.

(g) This amendment becomes effective on February 13, 2007.

Note 3: The subject of this AD is addressed in Transport Canada (Canada) AD No. CF-2004-05R1, dated June 28, 2004.

Issued in Fort Worth, Texas, on December 26, 2006.
David A. Downey,
Manager, Rotorcraft Directorate, Aircraft Certification Service.

[FR Doc. E7-39 Filed 1-8-07; 8:45 am]

BILLING CODE 4910-13-P